FEDERAL LABOR RELATIONS AUTHORITY

[FLRA Docket No. WA-RP-90035]

Notice of Opportunity To Submit Amicus Curiae Briefs in a Representation Proceeding Pending Before the Federal Labor Relations Authority

AGENCY: Federal Labor Relations Authority.

ACTION: Notice of the opportunity to file briefs as amici curiae in a proceeding before the Federal Labor Relations Authority in which the Authority is determining whether certain employees who perform security work should be excluded from a bargaining unit on the ground that this work “directly affects national security” within the meaning of 5 U.S.C. 7112(b)(6).

SUMMARY: The Federal Labor Relations Authority provides an opportunity for all interested persons to file briefs as amici curiae on a significant issue in a case pending before the Authority. The Authority is considering the case pursuant to its responsibilities under the Federal Service Labor-Management Relations Statute, 5 U.S.C. 7101-7135 (the Statute) and its regulations, 5 CFR part 2422. The issue concerns the bargaining unit eligibility of employees performing security work.

DATES: Briefs submitted in response to this notice will be considered if received by mail or personal delivery in the Authority's Case Control Office by 5 p.m. on December 30, 2002. Placing submissions in the mail by this deadline will not be sufficient. Extensions of time to submit briefs will not granted.

Format: All briefs shall be captioned “Social Security Administration, Baltimore, Maryland, Case No. WA-RP-90035.” Parties must submit five copies, one of which must contain an original signature, of each amicus brief, on 8½ by 11 inch paper. Briefs must include a signed and dated statement of service that complies with the Authority's regulations showing service of one copy of the brief on all counsel of record or other designated representatives. 5 CFR 2429.27(a) and (c).

The designated representatives in Social Security Administration, Baltimore, Maryland, Case No. WA-RP-90035 are Cathy Six, Agency Representative, Office of Labor-Management and Employee Relations, Social Security Administration, 6401 Security Boulevard, Room G-F-10, WHR, Baltimore, MD 21235-6401; Michael J. Snider, Union Representative, AFGE, Local 1923. Room 1-J-21, Operations Building 6401 Security Boulevard, Baltimore, MD 21235; Barbara S. Liggett, Acting Regional Director, Federal Labor Relations Authority, 800 K Street, NW., Suite 910, Washington, DC 20001.

ADDRESSES: Mail or deliver briefs to Gail D. Reinhart, Director, Case Control Office, Federal Labor Relations Authority, 607 14th St. NW., Room 415, Washington, DC 20424-0001.

FOR FURTHER INFORMATION CONTACT: Gail D. Reinhart, Director, Case Control Office, Federal Labor Relations Authority, (202) 482-6540.

SUPPLEMENTARY INFORMATION: On November 1, 2002, in 58 FLRA No. 42, the Authority granted, in part, an application for review of the Acting Regional Director's Decision and Order in Social Security Administration, Baltimore, Maryland. A summary of the case follows. Copies of the Authority's complete decision may be obtained by telephoning Gail D. Reinhart at the number listed above.

A. Background

American Federation of Government Employees, AFL-CIO (Union), filed a petition seeking to clarify the bargaining unit to include certain employees of the Social Security Administration, Baltimore, MD (the Agency) who work as Physical Security Specialists and Electronics Technicians. During the processing of this petition, the Agency asserted that the employees should be excluded from the bargaining unit under section 7112(b)(6) of the Statute. The employees develop and implement security operation procedures for the Agency's facilities. Section 7112(b)(6) provides, as relevant here, that a bargaining unit is not appropriate if it includes any employee engaged in “security work which directly affects national security[.]”

B. The Acting Regional Director's Decision

The Acting Regional Director determined that the disputed positions were not excluded from the proposed unit under section 7112(b)(6) of the Statute because, although the employees were engaged in “security work” within the meaning of section 7112(b)(6) of the Statute, the security work performed by them does not “directly affect[] national security” within the meaning of section 7112(b)(6) of the Statute. Therefore, she concluded that the employees in the disputed positions were not excluded from the bargaining unit.

C. The Application for Review

The Agency filed the application for review, contending that review of the Acting Regional Director's decision is warranted under 5 CFR 2422.31(c), because the decision raises an issue for which there is an absence of precedent.

D. Question on Which Briefs Are Solicited

In Social Security Administration, Baltimore, Maryland, the Authority granted the application for review under 5 CFR 2422.31(c) and directed the parties to file briefs addressing whether, and how, the security work performed by the incumbents of the (1) Physical Security Specialist, GS-080-11 (Position Description #8B349); (2) Physical Security Specialist, GS-080-11 (Position Description #8B356); and (3) Electronics Technician, GS-856-11 positions “directly affects national security” as that phrase is defined in Dep't of Energy, Oak Ridge Operations, Oak Ridge, Tenn., 4 FLRA 644, 655-56 (1980). (To better comport with the terms of the Statute, this question is slightly modified from the questions asked in the original decision.)

Because this issue is likely to be of concern to the federal sector labor-management relations community in general, the Authority finds it appropriate to provide for the filing of amicus briefs addressing this question.

Dated: November 25, 2002.
For the Authority.
Gail D. Reinhart,
Director, Case Control Office.

[FR Doc. 02-30313 Filed 11-27-02; 8:45 am]

BILLING CODE 6227-01-P